DEPARTMENT OF DEFENSE

Department of the Army; Corps of Engineers

Intent To Prepare a Draft Environmental Impact Statement for Providing a Deeper and Wider Navigation Channel to the Port of Iberia Through the Enlargement of Existing Access Channels, in Vermilion and Iberia Parishes in the Vicinity of New Iberia and Intracoastal City, LA

AGENCY: Department of the Army, U.S. Army Corps of Engineers, DoD.

ACTION: Notice of intent.

SUMMARY: The U.S. Army Corps of Engineers (Corps), New Orleans District, is initiating this study under the authority of section 431 of the Water Resources Development Act of 2000 (Pub. L. 106-541), dated December 11, 2000, to determine the feasibility of deepening and widening the navigation channel to the Port of Iberia (hereafter referred to as “the Port”) through the enlargement of existing access channels. Deepwater oil and gas exploration and development in the Gulf of Mexico and other deepwater areas has increased because of growth in demand; depletion of existing oil and gas fields, including those in the shallower areas of the gulf; and advancements in deepwater drilling technologies that include larger platforms. The Port was constructed by Iberia Parish to provide a navigation outlet for trade and transportation of offshore fabrication modules. South Louisiana and the Port have a long association with the development of offshore oil and gas industry worldwide. The Port is primarily a landlocked port with connections to the Gulf of Mexico through the Commercial Canal and the Acadiana Navigation Channel. Additionally, the current project provides a “Harbor of Refuge” during storms and hurricanes. Five major waterways service the Port: the Gulf Intracoastal Waterway, the Atchafalaya River, the Acadiana Navigation Channel, the Vermilion River Cutoff, and the Freshwater Bayou. The Port's access channel, the Commercial Canal is essentially the northernmost portion of the Acadiana Navigation Channel.

FOR FURTHER INFORMATION CONTACT: Questions concerning the Environmental Impact Statement (EIS) should be addressed to Mr. Michael Salyer at U.S. Army Corps of Engineers, PM-RS, PO Box 60267, New Orleans, LA 70160-0267, phone (504) 862-2037, fax number (504) 862-2572 or by E-mail at michael.r.salyer@mvn02.usace. army.mil.

SUPPLEMENTARY INFORMATION: 1. Proposed Action. The proposed action would provide for the enlargement of the existing navigation channels to the Port via the Commercial Canal to the Gulf Intracoastal Waterway (GIWW) to Freshwater Bayou to the Gulf of Mexico via a bypass channel at the existing Freshwater Bayou lock. The proposed project bottom depth is to 20 foot MSL from the current 13 feet MSL in Commercial Canal, and to 20 foot MSL from the current 12 foot MSL in the GIWW and Freshwater Bayou. The channel alignments and bottom widths would be increased to 150 feet from the current 115 feet where necessary in the areas of the Port as a result of existing bulkheads. The Commercial Canal, GIWW, and Freshwater Bayou widths would be increased to 200 feet from the current 125 feet. It was assumed that the 250-foot width of the Freshwater Bayou Bar Channel into the Gulf of Mexico would remain the same. The Freshwater By-Pass would be widened to 150 feet from the current 125 feet. A 20-foot project depth was the only depth evaluated for the reconnaissance analysis. The material dredged for the construction and maintenance of the channels would be used for bank-line stabilization and wetlands restoration and construction, to the maximum extent practicable. Economic and environmental analysis would be used to determine the most practical plan, which would provide for the greatest overall public benefit.

2. Alternatives. Alternatives recommended for consideration presently include the construction of deeper and wider channels in the Commercial Canal, GIWW, and Freshwater Bayou. Incremental reaches of those channels with separable benefits and cost would be investigated. Various project depths for navigation channels would also be investigated.

3. Scoping. Scoping is the process for determining the scope of alternatives and significant resources and issues to be addressed in the Environmental Impact Statement. For this process, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A public scoping meeting will be held in November of 2002. The meeting will be held in the vicinity of Abbeville, LA. Additional meetings could be held, depending upon interest and if it is determined that further public coordination is warranted.

4. Significant Resources. The tentative list of resources and issues to be evaluated in the EIS includes tidal wetlands (marshes and swamps), aquatic resources, commercial and recreational fisheries, wildlife resources, essential fish habitat, water quality, air quality, threatened and endangered species, recreation resources, and cultural resources. Socioeconomic items to be evaluated in the EIS include navigation, flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. The USFWS will provide a Fish and Wildlife Coordination Act report. Coordination will be accomplished with the USFWS and the National Marine Fisheries Service (NMFS) concerning threatened and endangered species and their critical habitat. The NMFS will be consulted on the effects of this proposed action on Essential Fish Habitat. The draft EIS (DEIS) or a notice of its availability will be distributed to all interested agencies, organizations, and individuals.

6. Estimated Date of Availability. Funding levels will dictate the date when the DEIS is available. The earliest that the DEIS is expected to be available is in the spring of 2004.

Dated: October 15, 2002.
Peter J. Rowan,
Colonel, U.S. Army District Engineer.

[FR Doc. 02-27722 Filed 10-30-02; 8:45 am]

BILLING CODE 3710-84-U